DEPARTMENT OF COMMERCE

National Oceanic and Atmospheric Administration

50 CFR Part 622

[I.D. 053100A]

Gulf of Mexico Fishery Management Council; Public Hearings

AGENCY: National Marine Fisheries Service (NMFS), National Oceanic and Atmospheric Administration (NOAA), Commerce.

ACTION: Notice of public hearings; request for comments.

SUMMARY: The Gulf of Mexico Fishery Management Council (Council) will convene public hearings to receive comments on a draft Generic Amendment Addressing the Establishment of Tortugas Marine Reserves (draft Generic Tortugas Marine Reserves Amendment).

DATES: Written comments will be accepted until 5 p.m. on June 30, 2000. The public hearings will be held on June 21 and 22, 2000. See SUPPLEMENTARY INFORMATION for specific dates and times of the public hearings.

ADDRESSES: Written comments should be sent to, and copies of the draft Generic Tortugas Marine Reserves Amendment are available from, the Council. The Council's address is: Gulf of Mexico Fishery Management Council, 3018 U.S. Highway 301, North, Suite 1000, Tampa, Florida 33619. See SUPPLEMENTARY INFORMATION for specific dates and times of the public hearings.

FOR FURTHER INFORMATION CONTACT: Mr. Wayne Swingle, Executive Director, Senior Fishery Biologist, Gulf of Mexico Fishery Management Council; telephone: (813) 228-2815.

SUPPLEMENTARY INFORMATION: The Council will convene public hearings to take comments on a draft Generic Tortugas Marine Reserves Amendment, which proposes to establish the Tortugas South marine reserve that will encompass the Riley's Hump mutton snapper spawning aggregation site established by the Council in 1994. The total area of the proposed Tortugas South marine reserve is 60 square nautical miles (nm). The draft Generic Tortugas Marine Reserves Amendment also proposes to create the Tortugas North marine reserve cooperatively with the Florida Keys National Marine Sanctuary (FKNMS), the State of Florida, and the National Park Service, which will encompass an area of 120 square nm. The portion proposed to be established by the Council is 13 nm. The Council proposes that marine reserves be established for a period of at least 10 years, during which the ecological benefits of the reserve will be evaluated. The Council also proposes that fishing, for all species managed under the Council's fishery management plans and for Atlantic highly migratory species, and anchoring by fishing vessels be prohibited within the marine reserves.

The draft Generic Tortugas Marine Reserves Amendment would amend all of the Council's fishery management plans and contains a draft supplemental environmental impact statement (DSEIS), a draft initial regulatory flexibility analysis, and a draft regulatory impact review. The DSEIS has not yet been filed with the Environmental Protection Agency for announcement for public comment. The Council will hear public testimony on the draft Generic Tortugas Marine Reserves Amendment before taking final action on the Generic Tortugas Marine Reserves Amendment at its July 12, 2000, meeting in Key Largo, Florida. Also, there will be a Highly Migratory Species (HMS) NMFS staff member present at both hearings to specifically hear public testimony of affected HMS fishermen.

Public hearings on the draft Generic Tortugas Marine Reserves Amendment will begin at 3:30 p.m. and end at 8 p.m. at all of the following locations:

1. Wednesday, June 21, 2000—Sombrero Country Club, 4000 Sombrero Boulevard, Marathon, Florida 33050; and

2. Thursday, June 22, 2000—Holiday Inn Beachside, 3841 North Roosevelt Boulevard, Key West, Florida 33040.

Special Accommodations

These meetings are physically accessible to people with disabilities. Requests for sign language interpretation or other auxiliary aids should be directed to Anne Alford at the Council (see ADDRESSES) by June 7, 2000.

Dated: June 9, 2000.
Bruce C. Morehead,
Acting Director, Office of Sustainable Fisheries, National Marine Fisheries Service.

[FR Doc. 00-15179 Filed 6-14-00; 8:45 am]

BILLING CODE 3510-22-F